DEPARTMENT OF LABOR

Employment and Training Administration

[TA-W-53,503]

NTN-BCA Corporation, A Wholly Owned Subsidiary of NTN-USA, Greensburg, IN; Notice of Termination of Investigation

Pursuant to section 221 of the Trade Act of 1974, as amended, an investigation was initiated on November 12, 2003, in response to a petition filed by a company official on behalf of workers at NTN-BCA Corporation, a wholly owned subsidiary of NTN-USA, Greensburg, Indiana.

The petitioner has requested that the petition be withdrawn. Consequently, further investigation would serve no purpose, and the investigation is terminated.

Signed at Washington, DC this 23rd day of December, 2003.
Linda G. Poole,
Certifying Officer, Division of Trade Adjustment Assistance.

[FR Doc. 04-641 Filed 1-12-04; 8:45 am]

BILLING CODE 4510-30-P